DEPARTMENT OF JUSTICE

Notice of Lodging of Settlement Agreement Under Comprehensive Environmental Response, Compensation and Liability Act

In accordance with Departmental policy, 28 C.F.R. 50.7, notice is hereby given that a proposed Settlement Agreement in In re Ecolaire Incorporated, C.A. No. 99-2520 (Bnkr. Ct. Del.), was lodged on January 19, 2001, with the United States Bankruptcy Court for the District of Delaware. The Settlement Agreement resolves the United States' claims against Ecolaire Incorporated (“Ecolaire”) with respect to past response costs incurred and future costs to be incurred, pursuant to Section 107 of the Comprehensive Environmental Response, Compensation and Liability Act, 42 U.S.C. 9607, in connection with the clean-up of the Welsh Road Site. The Site is located in Honey Brook, Pennsylvania.

Under the Settlement Agreement, Ecolaire has agreed to give EPA, a general unsecured creditor, an allowed claim in the amount of $13,277 in reimbursement of past and future response costs incurred in connection with the Site. Ecolaire will pay this allowed claim on the same basis as it pays the allowed claims of all other unsecured creditors.

The Department of Justice will receive, for a period of thirty (30) days from the date of this publication, comments relating to the proposed Settlement Agreement. Comments should be addressed to the Assistant Attorney General for the Environment and Natural Resources Division, Department of Justice, Washington, D.C. 20530, and should refer to In re Ecolaire Incorporated, DOJ Reference No. 90-11-2-207/7.

The proposed Settlement Agreement may be examined at the Office of the United States Attorney, Chemical Bank Plaza, 1201 Market Street, Suite 1100, Wilmington, Delaware 19899; and the Region III Office of the Environmental Protection Agency, 1650 Arch Street, Philadelphia, Pennsylvania 19103. A copy of the proposed Settlement Agreement may be obtained by mail from the Department of Justice Consent Decree Library, P.O. Box 7611, Washington, D.C. 20044. In requesting a copy, please refer to the referenced case and enclose a check in the amount of $2.00 (.25 cents per page production costs), payable to the Consent Decree Library.

Walker B. Smith,
Deputy Chief, Environmental Enforcement Section, Environment and Natural Resources Division.

[FR Doc. 01-2583 Filed 1-30-01; 8:45 am]

BILLING CODE 4410-15-M